DEPARTMENT OF LABOR

Employment and Training Administration

[TA-W-56,059]

Louisiana Pacific Corporation, OSB-Woodland, Baileyville, ME; Notice of Revised Determination on Reconsideration of Alternative Trade Adjustment Assistance

By letter dated January 24, 2005, the state official requested administrative reconsideration regarding Alternative Trade Adjustment Assistance (ATAA). The negative determination was signed on January 10, 2005 and will be soon published in the Federal Register.

The workers of Louisiana Pacific Corporation, OSB-Woodland, Baileyville, Maine were certified eligible to apply for Trade Adjustment Assistance (TAA) on January 10, 2005.

The initial ATAA investigation determined that the skills of the subject worker group are easily transferable to other positions in the local area.

The state official provided documentation with the request for reconsideration which contains evidence that the skills of the workers at the subject firm are not easily transferable in the local commuting area.

Additional investigation has determined that the workers possess skills that are not easily transferable. A significant number or proportion of the worker group are age fifty or over. Competitive conditions within the industry are adverse.

Conclusion

After careful review of the additional facts obtained on reconsideration, I conclude that the requirements of Section 246 of the Trade Act of 1974, as amended, have been met for workers at the subject firm.

In accordance with the provisions of the Act, I make the following certification:

All workers of Louisiana Pacific Corporation, OSB-Woodland, Baileyville, Maine, who became totally or partially separated from employment on or after November 18, 2003 through January 10, 2006, are eligible to apply for adjustment assistance under Section 223 of the Trade Act of 1974, and are also eligible to apply for alternative trade adjustment assistance under Section 246 of the Trade Act of 1974.

Signed in Washington, DC this 25th day of January 2005.
Elliott S. Kushner,
Certifying Officer, Division of Trade Adjustment Assistance.

[FR Doc. E5-457 Filed 2-4-05; 8:45 am]

BILLING CODE 4510-30-P